DEPARTMENT OF ENERGY

Proposed Subsequent Arrangement

AGENCY: National Nuclear Security Administration, Department of Energy.

ACTION: Proposed subsequent arrangement.

SUMMARY: This document is being issued under the authority of the Atomic Energy Act of 1954, as amended. The Department is providing notice of a proposed subsequent arrangement under Article 6 paragraph 2 of the Agreement for Cooperation Between the Government of the United States of America and the Government of the Kingdom of Norway Concerning Peaceful Uses of Nuclear Energy.

DATES: This subsequent arrangement will take effect no sooner than January 9, 2023.

FOR FURTHER INFORMATION CONTACT: Ms. Andrea Ferkile, Office of Nonproliferation and Arms Control, National Nuclear Security Administration, Department of Energy. Telephone: 202-586-8868 or email: andrea.ferkile@nnsa.doe.gov.

SUPPLEMENTARY INFORMATION: This subsequent arrangement concerns the alteration in form or content of U.S.-obligated nuclear material: (A) unirradiated uranium in the form of fuel pellets and grinding discharges in the amount and composition of 321.5 grams of U-235 in unirradiated highly enriched uranium (HEU) between 90-93 percent enrichment, and 143.8 grams of plutonium; and (B) irradiated uranium in the form of spent fuel rods in the amount and composition of 2,935 grams irradiated HEU (containing a total of 1,838.4 grams of U-235 and 625.2 grams of U-233 and whose pre-irradiation U-235 enrichments were between 90-93 percent) that is combined with 98,371 grams of thorium and 0.5 grams of plutonium. The Institute for Energy Technology (IFE), located in Kjeller, Norway, will downblend the irradiated HEU-containing material identified above so as to result in an enrichment level of 3.5% in the isotope U-235 and in the combined isotopes U-235 plus U-233. The remainder of the HEU (along with other U.S.-obligated nuclear materials, including 9,809 grams of unirradiated low-enriched uranium, 256 grams of natural uranium, 77 grams of depleted uranium, 7,886 grams of thorium, and the 143.8 g of unirradiated plutonium) contained in unirradiated scrap material and grinding discards also will be processed in the same manner. The final form of the U.S.-obligated nuclear material will be a metallic alloy, comprising the uranium, plutonium, and thorium together with additives such as stainless steel, depleted uranium, and reductants, in the form of cylindrical ingots, and will be stored at IFE. The processed U.S.-obligated nuclear material will remain subject to the Agreement for Cooperation Between the Government of the United States of America and the Government of the Kingdom of Norway Concerning Peaceful Uses of Nuclear Energy until Norway and the United States have agreed it is no longer useable for any nuclear activity relevant from the point of view of safeguards and it is finally disposed at a national disposal facility for radioactive waste.

Pursuant to the authority in section 131a. of the Atomic Energy Act of 1954, as delegated, I have determined that this proposed subsequent arrangement concerning the alteration in form or content of the U.S.-obligated nuclear material will not be inimical to the common defense and security.

Signing Authority

This document of the Department of Energy was signed on December 19, 2022, by Corey Hinderstein, Deputy Administrator for Defense Nuclear Nonproliferation, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 19, 2022.
Treena V. Garrett,
Federal Register Liaison Officer, U.S. Department of Energy.

[FR Doc. 2022-27899 Filed 12-22-22; 8:45 am]

BILLING CODE 6450-01-P